DEPARTMENT OF HEALTH AND HUMAN SERVICES

Centers for Disease Control and Prevention

[30Day-12-12EK]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Process and Intermediate Outcome Evaluation of “Teenage Pregnancy Prevention: Integrating Services, Programs, and Strategies through Community-Wide Initiatives”—New—National Center for Chronic Disease Prevention and Health Promotion (NCCDPHP), Centers for Disease Control and Prevention (CDC).

Background and Brief Description

CDC is currently providing funding to nine state and community awardees, and five national organizations, to examine innovative, evidence-based teenage pregnancy prevention programs. Efforts are focused in communities with high rates of teen pregnancy in under-served African American and Latino youth. Components of these efforts include (1) implementing evidence-based or evidence-informed prevention programs; (2) linking teens to quality health services; (3) educating stakeholders (parents, community leaders, and other constituents) about relevant evidence-based or evidence-informed strategies to reduce teen pregnancy; and (4) supporting the sustainability of the community-wide teen pregnancy prevention effort through capacity building and improved coordination of services.

CDC proposes to collect the information needed to conduct a process and intermediate outcome evaluation of these efforts. The information collection and evaluation plan will systematically document capacity building within funded communities and the extent to which communities implement multi-component, community-wide initiative activities. Respondents for the nine state and community awardees will include the project director/coordinator for each site, evaluators, and other program staff. In addition, to gain a variety of perspectives, information will be requested from multiple community and clinical partners associated with each state or community awardee (e.g., program implementers and core advisory group members). Information collected from these respondents will include needs assessments. Finally, CDC will collect information about the training and technical assistance needs of state and community awardees, and national organizations, which have been funded to support community-wide teen pregnancy prevention (TPP) activities.

The training and technical assistance reporting forms will be submitted to CDC electronically through an interactive web-based system. The remaining information collection forms will initially be fielded in hardcopy, but respondents may submit the completed forms to CDC via electronic mail. To allow flexibility based on awardee preferences, web-based reporting options may be implemented for all forms. Assessment and performance information will be reported to CDC annually. Training and technical assistance needs will be reported monthly so that CDC can provide immediate, targeted technical assistance as needed.

The assessment information, performance measures and training and technical assistance information to be collected are critical to understanding (1) the teen pregnancy prevention needs of each target community, (2) quality implementation practices associated with evidence-based programs and contraceptive access, and (3) the impact of implemented strategies.

OMB approval is requested for three years. There are no costs to respondents other than their time. The total estimated annualized burden hours are 1,150.

Estimated Annualized Burden Hours
Type of respondent | Form name | Number of respondents | Number of responses per respondent | Average burden per response (in hr)
State and Community Awardees | State and Community Awardee Project Director/Project Coordinator Needs Assessment | 9 | 1 | 45/60
| State and Community Awardee Performance Measure Reporting Tool | 50 | 1 | 4
| State and Community Awardee Staff Needs Assessment | 50 | 1 | 45/60
| State and Community Awardee Training and Technical Assistance Reporting Tool | 50 | 12 | 1
National Organization Awardees | National Organization Awardee Training and Technical Assistance Reporting Tool | 15 | 12 | 1
Community and Clinical Partners | Community and Clinical Partner Clinical Partner Needs Assessment | 50 | 1 | 1
| Community and Clinical Partner Program Implementation Partner Needs Assessment | 100 | 1 | 45/60

Dated: August 23,2012.
Ron A. Otten,
Director, Office of Scientific Integrity (OSI), Office of the Associate Director for Science, Office of the Directors, Centers for Disease Control and Prevention.

[FR Doc. 2012-21323 Filed 8-28-12; 8:45 am]

BILLING CODE 4163-18-P